DEPARTMENT OF AGRICULTURE

Grain Inspection, Packers and Stockyards Administration

7 CFR Part 810

RIN 0580-AA96

United States Standards for Soybeans

AGENCY: Grain Inspection, Packers and Stockyards Administration, USDA.

ACTION: Withdrawal of advance notice of proposed rulemaking.

SUMMARY: On May 1, 2007, the Grain Inspection, Packers and Stockyards Administration (GIPSA) published an advance notice of proposed rulemaking (ANPR) in the Federal Register seeking public comment on the effectiveness of the soybean standards. We asked for input on factors used in the current standards and grading procedures, whether changes in soybean processing practices and technology merited changes in the standards, and whether any other changes were needed to ensure that the standards remain relevant to market needs. Because the comments that we received did not indicate a consensus concerning changes to the standards, we will not proceed with rulemaking in this matter.

FOR FURTHER INFORMATION CONTACT: Ross D. Heiman at USDA, GIPSA, FGIS, Market and Program Analysis Staff, Suite 180, STOP 1404, 6501 Beacon Drive, Kansas City, Missouri 64133; Telephone (816) 823-2580; Fax Number (816) 823-4644; e-mail Ross.D.Heiman@usda.gov.

SUPPLEMENTARY INFORMATION: GIPSA published an advance notice of proposed rulemaking (ANPR) in the Federal Register on May 1, 2007 (72 FR 23775), initiating a review of the United States Standards for Soybeans to determine their effectiveness and responsiveness to current grain industry needs. The original notice provided an opportunity for interested parties to comment until July 2, 2007. In response to a request from the soybean industry, on July 20, 2007 (72 FR 39764), GIPSA reopened the comment period until August 20, 2007, to provide interested parties with additional time in which to comment. We received 17 comments from producers, handlers, international associations and companies, and an academic. The comments that we received did not indicate a consensus concerning changes to the standards.

The one issue that merits further review is amending grading limits for soybean foreign material (FM). Based on the lack of consensus and, at times, conflicting information provided by some commenters, GIPSA has determined that we need to enhance our understanding of the soybean marketing/processing system and collect additional data about the quality of soybeans. GIPSA will use data from its ongoing 5-year farm-gate assessment before considering further rulemaking related to FM grading limits. The assessment will provide first-point-of-sale data related to soybean FM content and composition across the United States, providing an FM range that can be used to formulate new FM grade limits, if appropriate. Accordingly, we will not proceed with rulemaking in this matter.

Authority: (7 U.S.C. 87k).

Randall D. Jones,
Acting Administrator, Grain Inspection, Packers and Stockyards Administration.

[FR Doc. E8-24944 Filed 10-20-08; 8:45 am]

BILLING CODE 3410-KD-P